DEPARTMENT OF TRANSPORTATION

49 CFR Part 1

[Docket No. OST-1999-6189]

RIN 9991-AA41

Secretarial Delegations

AGENCY: Office of the Secretary, DOT.

ACTION: Final rule.

SUMMARY: The Office of the Secretary of Transportation (OST) is amending its regulations to reflect a change in Secretarial delegations. The Secretary is transferring responsibility for the Motor Carrier Financial and Operating Statistics Program from the Bureau of Transportation Statistics (BTS) to the Federal Motor Carrier Safety Administration (FMCSA). The transfer will take effect on September 29, 2004. This rule is necessary so that the delegations appearing in the Code of Federal Regulations reflect these changed responsibilities.

EFFECTIVE DATE: September 29, 2004.

FOR FURTHER INFORMATION CONTACT: Robert Monniere, Bureau of Transportation Statistics, Department of Transportation, 400 7th Street SW., Room 3103, Washington, DC 20590, (202) 366-5498 or Joy Dunlap, Federal Motor Carrier Administration, Department of Transportation, 400 7th Street SW., Room 8214, Washington, DC 20590, 202-493-0219.

SUPPLEMENTARY INFORMATION:

Background

The Interstate Commerce Commission (ICC) collected financial and operating statistics from regulated motor carriers from the 1930s until the end of 1995, when the ICC was abolished and data collection was transferred to DOT. (See 49 U.S.C. 11145 and implementing regulations at 49 CFR part 1420.) Following the transfer from the ICC, the Secretary delegated the functions and responsibilities to BTS (see 61 FR 68162). Recently, the Department conducted a comprehensive review of all major BTS programs and activities. One recommendation was that BTS should focus its resources on its core statistical programs. Based on the fact that this mandatory reporting program is regulatory in nature and requires the release of information concerning individually identifiable respondents, OST and BTS identified this program as a candidate re-delegation. Thus, based on the above, the Secretary has decided to change the Department delegations and transfer this reporting function to the FMCSA, in the belief that this program is more closely aligned with the FMCSA's safety mission and its other motor carrier responsibilities.

The Department publishes this rule as a final rule, effective on September 29, 2004, because these amendments relate to departmental management, organization, procedure, and practice, notice and comment are unnecessary under 5 U.S.C. 553(b) and the Department finds good cause under 5 U.S.C. 5539d)(3) for the final rule to be effective on September 29, 2004.

Regulatory Analyses and Notices

OST has determined that this action is not a significant regulatory action under Executive Order 12866 or under the Department's Regulatory Policies and Procedures. There are no costs associated with this rule. Because this rule will only apply to internal DOT operations, OST certifies that this rule will not have a significant economic impact on a substantial number of small entities. Moreover, any impact should be positive. OST also has determined that there are not sufficient federalism implications to warrant preparation of a federalism statement.

Paperwork Reduction Act

This rule contains no information collection requirements under the Paperwork Reduction Act of 1995 (44 U.S.C. 3501-3520).

Unfunded Mandates Reform Act of 1995

OST has determined that the requirements of Title II of the Unfunded Mandates Reform Act of 1995 do not apply to this rulemaking.

List of Subjects in 49 CFR Part 1

Authority delegations, Organizations and functions.

For the reasons set forth in the preamble, the Office of the Secretary amends 49 CFR Part 1 as follows:

PART 1—ORGANIZATION AND DELEGATION OF POWERS AND DUTIES

1. The authority citation for Part 1 continues to read as follows:

Authority: 49 U.S.C. 322; 46 U.S.C. 2104(a); 28 U.S.C. 2672; 31 U.S.C. 3711(a)(2); Pub. L. 101-552, 104 Stat. 2736; Pub. L. 106-159, 113 Stat. 1748; Pub. L. 107-71, 115 Stat. 597, Pub.L.

§ 1.71 [Amended]

2. In § 1.71, remove paragraph (b) and redesignate paragraph (c) as paragraph (b).

3. In § 1.73, add paragraph (p) to read as follows:

§ 1.73 Delegation to the Administrator of the Federal Motor Carrier Safety Administration.

* * * * *

(p) Carry out the functions vested in the Secretary by 49 U.S.C. 14123, relating to the collection and dissemination of information on motor carriers.

Issued in Washington, DC on this 20th day of August, 2004.
Norman Y. Mineta,
Secretary.

[FR Doc. 04-18822 Filed 8-16-04; 8:45 am]

BILLING CODE 4910-62-P